FEDERAL RESERVE SYSTEM

Notice of Proposals to Engage in Permissible Nonbanking Activities or to Acquire Companies that are Engaged in Permissible Nonbanking Activities; Correction

This notice corrects a notice (FR Doc. 02-10621) published on pages 21242 and 21243 of the issue for Tuesday, April 30, 2002.

Under the Federal Reserve Bank of Richmond heading, the entry for Royal Bank of Canada, Montreal Canada; RBC Centura Banks, Inc., Rocky Mount, North Carolina, and peach Acquisition Sub, Inc., Atlanta, Georgia, is revised to read as follows:

A. Federal Reserve Bank of Richmond (A. Linwood Gill, III, Vice President) 701 East Byrd Street, Richmond, Virginia 23261-4528:

1. Royal Bank of Canada, Montreal, Canada; and RBC Centura Banks, Inc., Rocky Mount, North Carolina; to acquire Eagle Bancshares, Inc., Tucker, Georgia, and thereby indirectly acquire Tucker Federal Bank, Tucker, Georgia, and thereby engage in operating a savings association; Eagle Bancshares Capital Group, Inc., Tucker, Georgia, and thereby engage in lending and lending-related activities; Prime Eagle Mortgage Corporation, Tucker, Georgia, and thereby engage in lending and lending-related activities; Eagle Service Corporation, Tucker, Georgia, and thereby engage in discount brokerage, lending and lending-related activities; TFB Management, Inc., TFB Management (NC), Inc., and TFB Management (RE), Inc., all of Wilmington, Delaware, and thereby engage in lending and lending-related activities; and Hampton Oaks, LLP., Tucker, Georgia, and thereby engage in community development activities, pursuant to §§ 225.28(b)(1); 225.28(b)(2)(ii); 225.28(b)(2)(iv); 225.28(b)(4)(ii); 225.28(b)(7)(i), and 225.28(b)(12)(i) of Regulation Y.

Comments on this application must be received by May 24, 2002.

Board of Governors of the Federal Reserve System, May 3, 2002.
Jennifer J. Johnson,
Secretary of the Board.

[FR Doc. 02-11484 Filed 5-7-02; 8:45 am]

BILLING CODE 6210-01-S